DEPARTMENT OF ENERGY

[(OE Docket No. PP-82-5)]

Application To Amend Presidential Permit; Vermont Electric Power Company, Inc., as Agent for the Joint Owners of the Highgate Interconnection Facilities

AGENCY: Office of Electricity Delivery and Energy Reliability, DOE.

ACTION: Notice of Application.

SUMMARY: Vermont Electric Power Company, Inc. (“VELCO”), as operating-and-management agent for the Joint Owners of the Highgate Transmission Interconnection Facilities (the “Highgate Joint Owners”) filed an application to amend PP-82, issued on May 14, 1985 and amended on March 1, 1994, September 3, 2003, February 7, 2005 and again on May 3, 2016. VELCO requested that DOE reflect changes in ownership of the Highgate Transmission Facility.

DATES: Comments or motions to intervene must be submitted on or before August 11, 2017.

ADDRESSES: Comments or motions to intervene should be addressed as follows: Office of Electricity Delivery and Energy Reliability (OE-20), U.S. Department of Energy, 1000 Independence Avenue SW., Washington, DC 20585.

FOR FURTHER INFORMATION CONTACT: Christopher Lawrence (Program Office) at 202-586-5260, or by email to Christopher.Lawrence@hq.doe.gov, or Rishi Garg (Program Attorney) at 202-586-0258.

SUPPLEMENTARY INFORMATION: The construction, operation, maintenance, and connection of facilities at the international border of the United States for the transmission of electric energy between the United States and a foreign country is prohibited in the absence of a Presidential permit issued pursuant to Executive Order (E.O.) 10485, as amended by E.O. 12038.

On April 11, 2017, VELCO filed an application with DOE, as required by 10 CFR 205.322, requesting DOE amend PP-82-4 to reflect a change in the names and ownership interests and authorize, under Article 10 of PP-82 the transfer of the Highgate Transmission Facility so that Vermont Transco, LLC (Transco) will acquire 94.73% of the ownership interest in the facility from the current Joint Highgate Owners. The remaining 5.27% of the ownership would be acquired by the Stowe Electric Department (Stowe). Transco and Stowe would then be the Joint Highgate Owners. On June 14, 2017, VELCO informed DOE that Burlington Electric Department will remain a joint owner with 7.7% interest. Based on this modification, Transco would then have 87.03% of the ownership interest.

The international transmission facilities authorized by Presidential Permit No. PP-82, as amended, include a back-to-back converter station in Highgate, VT and a 345 kilovolt (kV) transmission line extending approximately 7.5 miles from the converter station to the U.S.-Canada border in Franklin, VT. VELCO does not propose to make any physical changes to the Highgate Facilities but rather asks the Department to amend the permit to reflect the change in ownership of the project.

Procedural Matters: Any person may comment on this application by filing such comment at the address provided above. Any person seeking to become a party to this proceeding must file a motion to intervene at the address provided above in accordance with Rule 214 of FERC's Rules of Practice and Procedure (18 CFR 385.214). Two copies of each comment or motion to intervene should be filed with DOE on or before the date listed above.

Additional copies of such motions to intervene also should be filed directly with: Mr. Colin Owyang, Vice President, General Counsel & Corporate Secretary, Vermont Electric Power Company, Inc., 366 Pinnacle Ridge Road, Rutland, VT 05701, cowyang@velco.com AND John H. Marshall, Esq., Downs Rachlin Martin PLLC, 90 Prospect Street, P.O. Box 99, St. Johnsbury, VT 05819-0099, jmarshall@drm.com.

Before a Presidential permit may be granted or amended, DOE must determine that the proposed action will not adversely impact the reliability of the U.S. electric power supply system. In addition, DOE must consider the environmental impacts of the proposed action (i.e., granting the Presidential permit or amendment, with any conditions and limitations, or denying the permit) pursuant to the National Environmental Policy Act of 1969. DOE also must obtain the concurrence of the Secretary of State and the Secretary of Defense before taking final action on a Presidential permit application.

Copies of this application will be made available, upon request, for public inspection and copying at the address provided above. In addition, the application may be reviewed or downloaded electronically at http://energy.gov/oe/services/electricity-policy-coordination-and-implementation/international-electricity-regulatio-2. Upon reaching the home page, select “Pending Applications.”

Issued in Washington, D.C., on June 28, 2017.
Christopher A. Lawrence,
Electricity Policy Analyst, Office of Electricity Delivery and Energy Reliability.

[FR Doc. 2017-14598 Filed 7-11-17; 8:45 am]

BILLING CODE 6450-01-P